ENVIRONMENTAL PROTECTION AGENCY

40 CFR Part 52

[EPA-R04-OAR-2005-SC-0002-200535(a); FRL-8894-8]

Approval and Promulgation of Implementation Plans; South Carolina; NOX SIP Call Phase II

AGENCY: Environmental Protection Agency (EPA).

ACTION: Direct final rule.

SUMMARY: EPA is taking direct final action to approve a source-specific State Implementation Plan (SIP) revision submitted by the South Carolina Department of Health and Environmental Control (SC DHEC) on April 14, 2005. The revision responds to EPA's regulation entitled, “Interstate Ozone Transport: Response to Court Decisions on the Nitrogen Oxides (NOX) SIP Call, NOX SIP Call Technical Amendments, and Section 126 Rules,” otherwise known as the “NOX SIP Call Phase II.” This revision meets the requirements of the NOX SIP Call Phase II, which requires South Carolina to submit NOX SIP Call Phase II revisions necessary to achieve applicable, incremental reductions of NOX, including emission reductions from large internal combustion (IC) engines. Transcontinental Gas Pipeline Corporation Station 140 (Transco) is the only facility in South Carolina affected by the NOX SIP Call Phase II. The intended effect of this SIP revision is to reduce emissions of NOX originating in the State of South Carolina to help attain and maintain the national ambient air quality standard (NAAQS) for ozone. This action is being taken pursuant to section 110 of the Clean Air Act (CAA).

DATES: This direct final rule is effective June 22, 2009 without further notice, unless EPA receives adverse comment by May 26, 2009. If adverse comment is received, EPA will publish a timely withdrawal of the direct final rule in the Federal Register and inform the public that the rule will not take effect.

ADDRESSES: Submit your comments, identified by Docket ID No. EPA-R04-OAR-2005-SC-0002, by one of the following methods:

1. www.regulations.gov: Follow the on-line instructions for submitting comments.

2. E-mail: ward.nacosta@epa.gov.

3. Fax: (404) 562-9019.

4. Mail: “EPA-R04-OAR-2005-SC-0002,” Regulatory Development Section, Air Planning Branch, Air, Pesticides and Toxics Management Division, U.S. Environmental Protection Agency, Region 4, 61 Forsyth Street, SW., Atlanta, Georgia 30303-8960.

5. Hand Delivery or Courier: Nacosta C. Ward, Regulatory Development Section, Air Planning Branch, Air, Pesticides and Toxics Management Division, U.S. Environmental Protection Agency, Region 4, 61 Forsyth Street, SW., Atlanta, Georgia 30303-8960. Such deliveries are only accepted during the Regional Office's official hours of business. The Regional Office's official hours of business are Monday through Friday, 8:30 to 4:30, excluding Federal holidays.

Instructions: Direct your comments to Docket ID No. “EPA-R04-OAR-2005-SC-0002.” EPA's policy is that all comments received will be included in the public docket without change and may be made available online at www.regulations.gov, including any personal information provided, unless the comment includes information claimed to be Confidential Business Information (CBI) or other information whose disclosure is restricted by statute. Do not submit through www.regulations.gov or e-mail, information that you consider to be CBI or otherwise protected. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Nacosta C. Ward, Regulatory Development Section, Air Planning Branch, Air, Pesticides and Toxics Management Division, U.S. Environmental Protection Agency, Region 4, 61 Forsyth Street, SW., Atlanta, Georgia 30303-8960. The telephone number is (404) 562-9140. Ms. Ward can also be reached via electronic mail at ward.nacosta@epa.gov.

SUPPLEMENTARY INFORMATION:

Table of Contents

I. Background

II. Analysis of the State's Submittal

III. Final Action

IV. Statutory and Executive Order Reviews

I. Background

On October 27, 1998, EPA published a final rule known as the “NOX SIP Call” (63 FR 57355), and later known as the “NOX SIP Call Phase I.” Phase I of the NOX SIP Call required 22 states, including the State of South Carolina, to meet NOX emission budgets during the ozone season (March through September) to reduce the amount of ground level ozone that is transported across the eastern United States. EPA identified NOX emission reductions by source category when they could be achieved by using cost-effective measures. These source categories include electric generating units (EGUs), non-EGUs, internal combustion (IC) engines and cement kilns. For each affected jurisdiction, EPA determined the NOX emission budgets based on the implementation of cost effective controls. The budgets are to be met by the year 2007. Phase I of the NOX SIP Call gave states the flexibility to decide which source categories to regulate to meet the statewide budget. During Phase I, South Carolina regulated EGUs, non-EGUs and cement kilns, but chose not to address IC engines. See, e.g., 67 FR 43546 (June 28, 2002) (Approval and Promulgation of Implementation Plans: South Carolina: Nitrogen Oxides Budget and Allowance Trading Program).

A number of parties, including certain states as well as industry and labor groups, challenged Phase I of the NOX SIP Call rule. On May 14, 1999, and March 2, 2000, EPA published additional technical amendments to the NOX SIP Call in the Federal Register (64 FR 26298 and 65 FR 11222, respectively). On March 3, 2000, the United States Court of Appeals for the District of Columbia Circuit (DC Circuit Court) issued its decision on the NOX SIP Call, ruling in favor of EPA on all major issues. Michigan v. EPA, 213 F.3d 663 (DC Cir. 2000). However, the DC Circuit Court remanded four specific elements to EPA for further action: the definition of EGU; the level of control for stationary IC engines; the geographic extent of the NOX SIP Call for Georgia and Missouri; and the inclusion of Wisconsin. On May 28, 2002, SC DHEC submitted revisions to its SIP that complied with the requirements of Phase I of the NOX SIP Call. EPA approved the revisions on June 28, 2002 (67 FR 43546); these revisions became effective on July 29, 2002.

On April 21, 2004, EPA published a final rule addressing the remanded portion of the NOX SIP Call rule. This rule is entitled, “Interstate Ozone Transport: Response to Court Decisions on the NOX SIP Call, NOx SIP Call Technical Amendments, and Section 126 Rules,” and is otherwise known as “NOX SIP Call Phase II” (69 FR 21604). This rule promulgated specific changes in response to the DC Circuit Court's ruling on Phase I of the NOX SIP Call. Specifically, this action finalized certain aspects of the definitions of EGU and non-EGU; the control level for large stationary IC engines; partial State budgets for Georgia, Missouri, Alabama, and Michigan; changes to the statewide NOX budgets; SIP submittal dates for the required states to address the Phase II portion of the budget; SIP submittal dates for Georgia and Missouri; the compliance date for all covered sources; and the exclusion of Wisconsin from the NOX SIP Call (69 FR 21604, April 21, 2004). This rule also required states that submitted NOX SIP Call Phase I revisions, to submit Phase II SIP revisions, as necessary to achieve incremental reductions of NOX, no later than April 1, 2005. Phase II requires emissions reductions that are relatively small, representing less than 10 percent of the total reductions required by Phase I of the NOX SIP Call. For large, natural gas fired, stationary IC engines the control level was set at 82 percent. For diesel and dual fuel stationary IC engines the control level was set at 90 percent.

Phase II of the NOX SIP Call required South Carolina to reduce the Phase I NOx emissions originating in the State from 127,756 tons of NOX emissions per year to 123,496 tons per year, or by 4,260 tons ¹ of NOX emissions per year (69 FR 21604, 21629, April 21, 2004). South Carolina is achieving these NOX emission reductions for sources located in South Carolina by setting the control level for large, stationary IC engines at 82 percent, and for diesel and dual fuel stationary IC engines at 90 percent. On April 14, 2005, SC DHEC submitted revisions to incorporate these requirements as a proposed source-specific SIP revision, intended to meet the requirements of the NOX SIP Call Phase II.

¹ After further evaluation, EPA determined that South Carolina could meet its reduction requirements with a reduction of NOX emissions by 4,010 tons per ozone season. The Docket for this rulemaking contains additional information regarding Transco's control projects and anticipated NOX reductions associated with the projects.

II. Analysis of State's Submittal

The April 14, 2005, proposed revisions to the South Carolina SIP are consistent with EPA's requirements for Phase II of the NOX SIP Call. Phase II requires South Carolina to set NOX emission levels for large stationary IC engines, including large utility and industrial boilers (i.e. engines emitting more than one ton of NOX per average ozone season day in 1997) at 82 percent. The Transco Facility in Spartanburg County, South Carolina, is the only facility in South Carolina affected by this SIP revision. On April 27, 2004, SC DHEC issued a construction permit, number 2060-0179-CD, to Transco. The permit requires Transco to reduce its NOX emissions by 4,010 tons per ozone season. To achieve this result, Transco performed combustion modifications, engine mapping, and unit overhauls to thirteen of its fourteen IC engines. Transco subsequently monitored all of its engines during the 2006 ozone season to verify that its modifications were effective. Transco's permit requires it to monitor one engine in each NOX emission group on a rotating basis during each ozone season. IC Engine Group 1 includes engines 1 through 6; Group 2 includes engines 7 through 9; Group 3 includes engines 10 and 11; and Group 4 includes engines 12 and 13. Incorporation of the Transco construction permit 2060-0179-CD into the South Carolina SIP achieves all of the necessary NOX reductions to meet Phase II of the NOX SIP Call requirements for South Carolina.

III. Final Action

EPA is approving the aforementioned changes to the South Carolina SIP. EPA is publishing this rule without prior proposal because the Agency views this as a noncontroversial submittal and anticipates no adverse comments. However, in the proposed rules section of this Federal Register publication, EPA is publishing a separate document that will serve as the proposal to approve the SIP revision should adverse comments be filed. This rule will be effective June 22, 2009 without further notice unless the Agency receives adverse comments by May 26, 2009.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on June 22, 2009 and no further action will be taken on the proposed rule.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 22, 2009. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Intergovernmental relations, Incorporation by reference, Nitrogen dioxide, Ozone, Particulate matter, Reporting and recordkeeping requirements, Volatile organic compounds.

Dated: April 10, 2009.
Beverly H. Banister,
Acting Regional Administrator, Region 4.

40 CFR part 52 is amended as follows:

PART 52—[AMENDED]

1. The authority citation for part 52 continues to read as follows:

Authority: 42 U.S.C. 7401 et seq.

Subpart PP—South Carolina

2. Section 52.2120(d) is amended by adding a new entry for “Transcontinental Gas Pipeline Corporation Station 140” to read as follows:

§ 52.2120 Identification of plan.

* * * * *

(d) * * *

EPA-Approved South Carolina Source Specific Requirements
Name of source | Permit No. | State effective date | EPA approval date | Comments
Transcontinental Gas Pipeline Corporation Station 140 | 2060-0179-CD | 4/27/2004 | 4/23/2009 [Insert first page of publication] | This permit is incorporated in fulfillment of the NOX SIP Call Phase II requirements for South Carolina.

* * * * *

[FR Doc. E9-9222 Filed 4-22-09; 8:45 am]

BILLING CODE 6560-50-P